DEPARTMENT OF THE INTERIOR

Fish and Wildlife Service

[FWS-R3-ES-2018-N148; FXES11130300000-189-FF03E00000]

Endangered and Threatened Wildlife and Plants; Draft Recovery Plan for the Dakota Skipper

AGENCY: Fish and Wildlife Service, Interior.

ACTION: Notice of availability and request for public comment.

SUMMARY: We, the U.S. Fish and Wildlife Service, announce the availability of the draft recovery plan for the threatened Dakota skipper for public review and comment. We request review and comment on this draft recovery plan from local, State, and Federal agencies, and the public.

DATES: In order to be considered, comments must be received on or before February 24, 2020.

ADDRESSES:

Document availability: You may obtain a copy of the draft recovery plan by one of the following methods:

• U.S. mail: U.S. Fish and Wildlife Service; Minnesota-Wisconsin Ecological Services Field Office, Attention: Peter Fasbender; 4101 American Blvd. East, Bloomington, MN 55425.

• Telephone: Peter Fasbender, 952-252-0092.

• internet: Download the document at the Service's Midwest Region website at https://www.fws.gov/midwest/Endangered/insects/dask/index.html.

Comment submission: You may submit comments by one of the following methods:

• Mail or hand-delivery: Submit written comments to the above U.S. mail address.

• Fax: 952-646-2873, Attention: Peter Fasbender. Please include “Dakota Skipper DRP” in the subject line.

• Email: peter_fasbender@fws.gov. Please include “Dakota Skipper DRP” in the subject line.

For additional information about submitting comments, see Availability of Public Comments in SUPPLEMENTARY INFORMATION.

FOR FURTHER INFORMATION CONTACT: Peter Fasbender, by one of the methods in ADDRESSES.

SUPPLEMENTARY INFORMATION: We, the U.S. Fish and Wildlife Service (Service), announce the availability of the draft recovery plan for the threatened Dakota skipper (Hesperia dacotae) for public review and comment. The draft recovery plan includes objective, measurable criteria and management actions as may be necessary for removal of the species from the Federal List of Endangered and Threatened Wildlife. We request review and comment on this draft recovery plan from local, State, and Federal agencies, and the public.

Recovery Planning

Section 4(f) of the Endangered Species Act of 1973, as amended (Act; 16 U.S.C. 1531 et seq.), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal and to achieve intermediate steps toward that goal.

The Service has revised its approach to recovery planning. The revised process is intended to reduce the time needed to develop and implement recovery plans, increase recovery plan relevancy over a longer timeframe, and add flexibility to recovery plans so they can be adjusted to new information or circumstances. A recovery plan will include statutorily required elements (objective, measurable criteria, site-specific management actions, and estimates of time and costs), along with a concise introduction and our strategy for how we plan to achieve species recovery. The recovery plan is supported by a separate Species Status Assessment. The essential component to flexible implementation under this recovery process is producing a separate working document called the Recovery Implementation Strategy (implementation strategy). The implementation strategy steps down from the more general description of actions in the recovery plan to detail the specific, near-term activities needed to implement the recovery plan. The implementation strategy will be adaptable by being able to incorporate new information without having to concurrently revise the recovery plan, unless changes to statutory elements are required. The implementation strategy will be developed following publication of the final recovery plan and will be made available on the Service's website at that time.

Species Background

The Dakota skipper is a small butterfly with a 1-inch wingspan. Like other skippers, it has a thick body and faster, more powerful flight than most butterflies. The Dakota skipper inhabits remnants of tallgrass prairie and mixed-grass prairie in the north-central United States and into southern Saskatchewan and Manitoba Provinces of Canada. Within the native prairie patches where it persists, the species relies on high-quality habitat conditions—diverse native grassland plant communities—and on natural or human disturbances that maintain the integrity of these plant communities while minimizing mortality to vulnerable life stages. Populations may also be influenced significantly at local, landscape, regional, and continental scales by other factors that include activities such as grazing, haying, burning, pesticide use, and lack of management. (Refer to the Species Status Assessment Report (USFWS 2018) for a full discussion of the species' biology and threats.) Under the Act, the Service added the Dakota skipper as a threatened species to the Federal List of Endangered and Threatened Wildlife on October 24, 2014 (79 FR 63672).

Recovery Plan

The draft recovery strategy and criteria are summarized below. For a complete description of these components, as well as the actions and estimated time and costs associate with recovery, refer to the Draft Recovery Plan for the Dakota Skipper (see ADDRESSES for document availability).

Recovery Strategy

To recover the Dakota skipper, we will work with our public, private, and tribal partners to design and implement actions that will meet the four goals described below.

1. To ensure that the species' adaptive capacity is preserved, recovery efforts will focus on maintaining Dakota skipper persistence across its current range of adaptive variation. We identified four conservation areas, referred to as Conservation Units (CU), to focus and manage our recovery efforts.

2. To foster the Dakota skipper's ability to withstand environmental stochasticity, stressors, and catastrophes, recovery efforts should ensure that populations are healthy. Those healthy populations need to be supported by native prairie habitats typified by plant communities that reflect historical conditions and that contain a low abundance of non-native species. Recovery actions will also focus on ensuring that healthy populations are distributed across heterogeneous conditions within each CU.

3. Successful recovery requires a better understanding of some fundamental aspects of Dakota skipper ecology. Employing a well-designed adaptive management and monitoring framework for recovery implementation will allow us to better manage for suitable habitat conditions, protect against wide-range and simultaneous population declines due to environmental stochasticity and catastrophes, and respond to adverse effects of climate change.

4. Achieving the above goals is highly dependent on the cooperation and contributions of conservation partners. Specifically, attaining recovery will necessitate the cooperation and dedication of native prairie managers, conservationists, ranchers, farmers, agencies, and those with expertise needed to design and evaluate the effects of land management actions on the species. It will be critical to ensure that recovery goals are met in a manner that is in concert with the missions, objectives, and aspirations of our conservation partners.

Recovery Criteria

The ultimate recovery goal is to remove the Dakota skipper from the Federal List of Endangered and Threatened Wildlife (delist) by ensuring the long-term viability of the species in the wild. In the recovery plan, we define the following delisting criteria based on the best available information on the species:

Criterion 1. A probability of persistence (pP) ≥ 0.95 over 50 years in each CU. Each CU must also have a minimum of five healthy populations.

Criterion 2. A minimum of an additional 29 populations with each having a probability of persistence (pP) ≥ 0.75 over 50 years and distributed across CUs as specified in Table 1.

Table 1—The Minimum Number of Populations Required To Meet Criteria 1 and 2
Conservation unit | Number of populations—Criterion 1 | Number of populations—Criterion 2 | Number of populations
CU 1: Dry Steppes Ecoregion | 5 | 9 | 14
CU 2: Steppes Ecoregion | 5 | 6 | 11
CU 3: Red River Valley Section | 5 | 4 | 9
CU 4: Prairie Coteau Section | 5 | 10 | 15

Criterion 3. Each population considered under Criteria 1 and 2 has a written management plan in place that promotes population persistence.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Lori Nordstrom,
Assistant Regional Director, Ecological Services, Midwest Region.

[FR Doc. 2020-01201 Filed 1-23-20; 8:45 am]

BILLING CODE P